FEDERAL COMMUNICATIONS COMMISSION

[CC Docket No. 92-237; DA 00-169]

Next Meeting of the North American Numbering Council

AGENCY: Federal Communications Commission.

ACTION: Notice.

SUMMARY: On February 3, 2000, the Commission released a public notice announcing the February 22 and 23, 2000, meeting and agenda of the North American Numbering Council (NANC). For reasons described below, a portion of the meeting will be closed to the public on Wednesday, February 23, from 8:30 a.m. until 11 a.m. The intended effect of this action is to make the public aware of the NANC's next meeting and its agenda.

FOR FURTHER INFORMATION CONTACT: Jeannie Grimes at (202) 418-2320 or jgrimes@fcc.gov. The address is: Network Services Division, Common Carrier Bureau, Federal Communications Commission, The Portals, 445 12th Street, S.W., Suite 6A320, Washington, DC 20554. The fax number is: (202) 418-2345. The TTY number is: (202) 418-0484.

SUPPLEMENTARY INFORMATION: Released: February 3, 2000.

The North American Numbering Council (NANC) has scheduled a meeting to be held Tuesday, February 22, 2000, from 8:30 a.m. until 5 p.m., and on Wednesday, February 23, from 8:30 a.m. until 12 noon. The meeting will be held at the Federal Communications Commission, Portals II, 445 Twelfth Street, S.W., Room TW-C305, Washington, DC.

The meeting is to be held on Tuesday, February 22, 2000 from 8:30 a.m. until 5 p.m., and Wednesday, February 23, 11 a.m. until 12 noon meeting segment are open to the members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting. Requests to make an oral statement or provide written comments to the NANC should be sent to Jeannie Grimes at the address under FOR FURTHER INFORMATION CONTACT stated above.

It has been determined that the portion of the meeting to be held on Wednesday, February 23, 2000 from 8:30 a.m. until 11 a.m. will be closed to the general public. In response to NANC Chairman John R. Hoffman's request, after review by the General Counsel, FCC Chairman William E. Kennard, has determined that this portion of the February 23, 2000, meeting of the NANC may be closed to the public. In making this determination, Chairman Kennard stated: Given that the NANC's review, at the meeting, of the proposal by NeuStar, Inc., to provide number pooling administration is likely to involve disclosure of trade secrets and commercial or financial information obtained from a person and privileged or confidential, that portion of the NANC meeting is subject to the Government in Sunshine Act's (GISA) allowance for closure of meetings otherwise required to be open to the public. See GISA Section 552b(c)(4). Under the Federal Advisory Committee Act, 5 U.S.C., App. 2 (1988) (FACA), the requirement that Federal Advisory Committee meetings be open to the public is, therefore, not applicable to the above-specified portion of the February 23, 2000 meeting of the NANC.

Proposed Agenda—Tuesday, February 22, 2000

1. Approval of January 18-19, 2000, meeting minutes.

2. North American Numbering Plan Administration (NANPA) Report.

3. North American Numbering Plan Administration (NANPA) Oversight Working Group Report.

4. Numbering Resource Optimization (NRO) Working Group Report.

5. Local Number Portability Administration (LNPA) Working Group Report.

6. Cost Recovery Working Group Report.

7. Industry Numbering Committee (INC) Report.

8. Assumptions Issue Management Group workplan and timeline.

9. Oversight update regarding Limited Liability Corporations (LLCs) and the regional Number Portability Administration Centers (NPACs).

10. North American Numbering Plan Administration Billing and Collection Agent (NBANC) Update.

Wednesday, February 23, 2000

11. Number Pooling Issue Management Group (IMG) Report. Final report and recommendation regarding the NeuStar, Inc., response to the NANC Thousand Block Pooling Administrator Requirements Document. Report from the Legal Expertise Working Group on their review of the NeuStar response. The NANC will finalize its recommendation to be forwarded to the Federal Communications Commission's, Chief, Common Carrier Bureau for consideration. This presentation and discussion will take place during the 8:30 a.m. until 11 a.m., segment of the meeting and will be closed to the general public.

12. Steering Group Report.

13. Other Business.

Federal Communications Commission.
Diane Griffin Harmon,
Deputy Chief, Network Services Division, Common Carrier Bureau.

[FR Doc. 00-2752 Filed 2-4-00; 8:45 am]

BILLING CODE 6712-01-U